DEPARTMENT OF TRANSPORTATION

Maritime Administration

Maritime Security Act of 2003, Subtitle D—National Defense Tank Vessel Construction Assistance

AGENCY: Maritime Administration, DOT.

ACTION: Supplemental notice of information regarding MARAD's request for competitive proposals for construction of new product tank vessels.

SUMMARY: The purpose of this supplemental notice is to advise interested parties to monitor the Maritime Administration's Web site for periodic changes and clarifications related to the Request for Competitive Proposals (RFP) for the construction of up to five new tank vessels. The RFP is available on the Internet at http://www.fedbizopps.gov and http://www.marad.dot.gov and hard copies of the RFP are available in the Office of the Secretary, Maritime Administration.

FOR FURTHER INFORMATION CONTACT: Gregory V. Sparkman, Office of Insurance and Shipping Analysis, Maritime Administration, Room 8117, 400 Seventh Street, SW., Washington, DC 20590; Telephone: (202) 366-2400; Fax: (202) 366-7901.

SUPPLEMENTARY INFORMATION: This supplemental notice announces that updates and clarifications of the subject RFP will be posted on MARAD's Web site. The Web site has recently been modified to add new information regarding U.S. content requirements, the Capital Construction Fund and technical requirements. Additional technical information is expected to be included on the Web site soon. Periodic monitoring of the Web site is recommended.

Authority: 49 CFR 1.66.

Dated: May 25, 2004.
By Order of the Maritime Administrator.
Joel C. Richard,
Secretary, Maritime Administration.

[FR Doc. 04-12200 Filed 6-3-04; 8:45 am]

BILLING CODE 4910-81-P